SMALL BUSINESS ADMINISTRATION

[Declaration of Disaster #3257]

Commonwealth of Massachusetts and a Contiguous County in the State of New Hampshire

Middlesex County and the contiguous Counties of Essex, Norfolk, Suffolk, and Worcester in Massachusetts, and Hillsborough County, New Hampshire constitute a disaster area as a result of damages caused by a fire that occurred on May 4, 2000 in the Town of Concord. Applications for loans for physical damage as a result of this disaster may be filed until the close of business on July 31, 2000, and for economic injury until the close of business on March 2, 2001 at the address listed below or other locally announced locations: U.S. Small Business Administration, Disaster Area 1 Office, 360 Rainbow Boulevard South, 3rd Floor, Niagara Falls, NY 14303.

The interest rates are:

| Percent
For Physical Damage:
Homeowners With Credit Available Elsewhere | 7.375
Homeowners Without Credit Available Elsewhere | 3.687
Businesses With Credit Available Elsewhere | 8.000
Businesses and Non-Profit Organizations Without Credit Available Elsewhere | 4.000
Others (Including Non-Profit Organizations) With Credit Available Elsewhere | 6.750
For Economic Injury:
Businesses and Small Agricultural Cooperatives Without Credit Available Elsewhere | 4.000

The numbers assigned for physical damages are 325705 for Massachusetts and 325805 for New Hampshire. For economic injury the numbers are 9H4400 for Massachusetts and 9H4500 for New Hampshire.

(Catalog of Federal Domestic Assistance Program Nos. 59002 and 59008)
Dated: May 30, 2000.
Kris Swedin,
Acting Administrator.

[FR Doc. 00-14549 Filed 6-8-00; 8:45 am]

BILLING CODE 8025-01-U